NATIONAL ARCHIVES AND RECORDS ADMINISTRATION

36 CFR Part 1280

[FDMS No. NARA-23-0008; NARA-2023-034]

RIN 3095-AC13

Use of NARA Facilities: Rules for Filming, Photographing, or Videotaping on NARA Property for Personal Use

AGENCY: National Archives and Records Administration (NARA).

ACTION: Direct final rule.

SUMMARY: The National Archives and Records Administration (NARA) is amending our regulations on the Use of NARA Facilities to allow personal, non-flash photography throughout NARA exhibition galleries.

DATES: This rule is effective October 10, 2023, without further action, unless we receive actionable adverse comments by September 18, 2023. If we receive such comments, we will publish a withdrawal of the rule in the Federal Register.

ADDRESSES: You may submit comments, identified by RIN 3095-AC13 by the following method:

• Federal eRulemaking Portal: Go to https://www.regulations.gov. Follow the online instructions for submitting comments. All submissions must include NARA's name and the regulatory information number for this rulemaking (RIN 3095-AC13). We may publish any comments we receive without changes, including any personal information you include.

• Mail (for paper, flash drive, or CD-ROM submissions. Include “RIN 3095-AC13” on the submission): National Archives and Records Administration; Regulation Comments Desk, Suite 4100; 8601 Adelphi Road; College Park, MD 20740-6001.

FOR FURTHER INFORMATION CONTACT: Kimberly Richardson, Strategy and Performance Division, by email at regulation_comments@nara.gov, by email at kimberly.richardson@nara.gov, or by phone at 301-837-2902. Contact https://museum.archives.gov/contact-us with any questions on photography in NARA facilities.

SUPPLEMENTARY INFORMATION: The National Archives and Records Administration (NARA) is amending our regulations on the use of NARA facilities to allow personal photography throughout NARA exhibition galleries, including the Rotunda in the National Archives Museum, unless otherwise posted. Direct photography of the display of the founding documents in the Rotunda will continue to be prohibited; however, visitors are allowed to take selfies and other photographs that include the Rotunda as background. Research shows that most museums allow non-flash photography. By expanding the use of photography, we will enhance the visitor experience and raise awareness of our mission, while continuing to maintain preservation and security needs.

Regulatory Analysis

Review Under Executive Order 12866, Regulatory Planning and Review, 58 FR 51735; Executive Order 13563, Improving Regulation and Regulation Review, 76 FR 23821; and Executive Order 14094 Modernizing Regulatory Review, 88 FR 21879.

The Office of Management and Budget (OMB) has reviewed this rulemaking and determined it is not “significant” under section 3(f) of Executive Order 12866. It is not significant because it consists of administrative and minor revisions, involves agency organization and management, does not change substantive requirements, and imposes no costs on the public.

Review Under the Regulatory Flexibility Act (5 U.S.C. 601, et seq.)

This review requires an agency to prepare an initial regulatory flexibility analysis and publish it when the agency publishes the proposed rule. This requirement does not apply if the agency certifies that the rulemaking will not, if promulgated, have a significant economic impact on a substantial number of small entities (5 U.S.C. 603). We certify, after review and analysis, that this rulemaking will not have a significant adverse economic impact on small entities.

Review Under the Paperwork Reduction Act of 1995 (44 U.S.C. 3501 et seq.)

This rulemaking does not impose additional information collection requirements on the public that are subject to the Paperwork Reduction Act.

Review Under Executive Order 13132, Federalism, 64 FR 43255

Review under Executive Order 13132 requires that agencies review regulations for federalism effects on the institutional interest of states and local governments, and, if the effects are sufficiently substantial, prepare a Federal assessment to assist senior policy makers. This rulemaking will not have any effects on state and local governments within the meaning of the Executive order. Therefore, no federalism assessment is required.

Review Under the Unfunded Mandates Reform Act (Sec. 202, Pub. L. 104-4; 2 U.S.C. 1532)

Review under the Unfunded Mandates Reform Act requires that agencies determine whether any Federal mandate in the rulemaking may result in state, local, and tribal governments, in the aggregate, or the private sector, expending $100 million in any one year. NARA certifies that this rulemaking does not contain a Federal mandate that may result in such an expenditure, and this rulemaking is therefore not subject to this requirement.

List of Subjects in 36 CFR Part 1280

Archives and records, Federal buildings and facilities.

For the reasons stated in the preamble, NARA amends 36 CFR part 1280 as follows:

PART 1280—USE OF NARA FACILITIES

1. The authority citation for part 1280 continues to read as follows:

Authority: 44 U.S.C. 2102 notes, 2104(a), 2112, 2903.

2. Revise § 1280.46 to read as follows:

§ 1280.46 Filming, photographing, or videotaping for personal use.

(a) You may film, photograph, or videotape on NARA property outside a NARA facility so long as you do not impede vehicular or pedestrian traffic.

(b) You may film, photograph, or videotape inside a NARA facility during regular business hours in public areas, including research rooms and exhibition areas, unless otherwise posted, under the following conditions:

(1) You may not use a flash or other supplemental lighting; and

(2) You may not use a selfie stick, monopod, tripod, or similar equipment.

3. In § 1280.84, revise paragraph (a) to read as follows:

§ 1280.84 Using the Rotunda.

(a) We do not allow private group event activities (e.g., dinner/reception, program) to be held in the Rotunda or the exhibit galleries in the National Archives Museum. We may, at our discretion, allow attendees at private group events to enter the Rotunda and other Museum areas in conjunction with their event to view the exhibits, but the event activities themselves may not be held in those spaces. Whether during or outside of regular business hours, event attendees may film, photograph, or videotape in the Rotunda or other Museum areas, including group photographs or videos, for personal use only, in accordance with all applicable regulations contained in this part and unless otherwise posted.

* * * * *

Colleen J. Shogan,
Archivist of the United States.

[FR Doc. 2023-18465 Filed 8-25-23; 8:45 am]

BILLING CODE 7515-01-P